DEPARTMENT OF TRANSPORTATION

Pipeline and Hazardous Materials Safety Administration, Office of Hazardous Materials Safety; Notice of Application for Special Permits

AGENCY: Pipeline and Hazardous Materials Safety Administration, DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 15, 2006.

Address Comments to: Record Center, Pipeline and Hazardous Materials Safety Administration, U.S. Department of Transportation, Washington, DC 20590.

Comments should refer to the application number and be submitted in triplicate. If Confirmation of receipt of comments is desired, include a self-addressed stamped postcard showing the special permit number.

FOR FURTHER INFORMATION CONTACT: Copies of the applications are available for inspection in the Records Center, Nassif Building, 400 7th Street, SW., Washington, DC or at http://www.dms.dot.gov.

This notice of receipt of applications for special permit is published in accordance with part 107 of the Federal hazardous materials transportation law (49 U.S.C. 5117(b); 49 CFR 1.53(b)).

Issued in Washington, DC, on August 10, 2006.
R. Ryan Posten,
Chief, Special Permits Program, Office of Hazardous Materials, Special Permits & Approvals.

New Special Permits
Application No. | Docket No. | Applicant | Regulation(s) affected | Nature of special permits thereof
14382-N |  | BOC Gases, Murray Hill, NJ | 49 CFR 173.163, 180.209 | To authorize the transportation in commerce of certain DOT Specification 3BN nickle cylinders containing either tungsten hexafluoride and hydrogen fluoride that are used interchangeably without requalifying the cylinder. (Modes 1, 2, 3).
14383-N |  | Dairyland Power Cooperative, Genoa, WI | 49 CFR 173.416 | To authorize the one-time, one-way transportation in commerce of a Class 7 used reactor pressure vessel in alternative packaging by motor vehicle and rail. (Modes 1, 2).
14384-N |  | Matheson Tri-Gas, Parsippany, NJ | 49 CFR 173.301(f)(1) | To authorize the transportation in commerce of Propylene in DOT 3AA or 3AL specification cylinders utilizing an unbacked pressure relief device. (Modes 1, 2, 3, 4).
14385-N |  | Kansas City Southern Railway Company, Kansas City, MO | 49 CFR 174.59 | To authorize the one-way transportation in commerce of certain tank cars received in rail interchange from a foreign rail carrier at a Kansas City Southern facility in Laredo, TX to the nearest classification yard (less than 13 miles) for inspection and replacement of any missing placards. (Mode 2).
14387-N |  | Gayston Corporation, Springboro, OH | 49 CFR 173.302a, 173.304a, 180.209 | To authorize the manufacture, marking sale and use of non-DOT specification fully wrapped carbon fiber reinforced aluminum lined cylinders for shipment of certain Division 2.2 gases. (Modes 1, 2, 3, 4, 5).
14388-N |  | ATK Thiokol, Inc., Brigham City, UT | 49 CFR 173.62 | To authorize the transportation in commerce of certain desensitized explosives in a non-DOT specification 40 cubic yard metal roll-off box by motor vehicle. (Mode 1).

[FR Doc. 06-6948 Filed 8-15-06; 8:45 am]

BILLING CODE 4909-60-M